DEPARTMENT OF DEFENSE

Department of the Navy

Notice of Intent To Prepare an Analysis of Environmental Impacts Associated With the Conveyance of the Naval Ammunition Support Detachment, Vieques, Puerto Rico

AGENCY: Department of the Navy, DOD.

ACTION: Notice.

Notice of intent to prepare analysis of the environmental impacts associated with the conveyance of the Navy property as contemplated by the President's Directive to the Secretary of Defense and the Director, Office of Management and Budget, dated January 31, 2000, entitled “Resolution Regarding Use of Range Facilities on Vieques, Puerto Rico;” and notice of scoping period.

SUMMARY: The Department of the Navy (Navy) will prepare an analysis of the environmental impacts associated with implementation of the President's Directive of January 31, 2000. The analysis will address conveyance of the property comprising the Naval Ammunition Support Detachment (NASD), Vieques, Puerto Rico, except approximately 100 acres of land on which the Relocatable Over-The-Horizon Radar (ROTHR) facility and Mount Pirata telecommunications site are located. It is anticipated that Navy will also retain such easements and other property interests as are necessary to support access to and continued operation of these two sites.

The environmental analysis will address endangered and threatened species, other natural resources, cultural resources, hazardous materials, and other issues brought forth through the scoping process. The environmental analysis will also address potential mitigation measures. The Department of the Interior will act as a cooperating agency in the preparation of the environmental analysis.

On February 25, 2000, Navy submitted legislation to the Congress proposing conveyance of the NASD property to the Commonwealth of Puerto Rico.

Federal, state, and local agencies, and individuals or organizations who may be interested in or affected by the conveyance of the property or the management of the conservation areas are invited to provide oral or written comments, in Spanish or English, accepted until May 17, 2000. Comments should be as specific as possible. Scoping comments may be sent to: Commander, U.S. Naval Forces South, Building 1685, U.S. Naval Station Roosevelt Roads, Puerto Rico 00742, FPO 8A34099-6004.

FOR FURTHER INFORMATION CONTACT: For additional information, write to the above address or call Mr. Jose Negron at (757) 865-4078.

SUPPLEMENTARY INFORMATION: The President directed the Navy to submit legislation authorizing the conveyance of the property comprising the NASD, Vieques, except approximately 100 acres of land on which the ROTHR facility and Mount Pirata Telecommunications site are located, to the Commonwealth of Puerto Rico.

Dated: April 12, 2000.
J.L. Roth,
Lieutenant Commander, Judge Advocate General's Corps, U.S. Navy, Federal Register Liaison Officer.

[FR Doc. 00-9553 Filed 4-14-00; 8:45 am]

BILLING CODE 3810-FF-P